DEPARTMENT OF ENERGY

Federal Energy Regulatory Commission

Combined Notice of Filings #1

Take notice that the Commission received the following exempt wholesale generator filings:

Docket Numbers: EG23-63-000.

Applicants: Sonoran Solar Energy, LLC.

Description: Sonoran Solar Energy, LLC submits Notice of Self-Certification of Exempt Wholesale Generator Status.

Filed Date: 1/19/23.

Accession Number: 20230119-5161.

Comment Date: 5 p.m. ET 2/9/23.

Docket Numbers: EG23-64-000.

Applicants: Saint Energy Storage II, LLC.

Description: Saint Energy Storage II, LLC submits Notice of Self-Certification of Exempt Wholesale Generator Status.

Filed Date: 1/19/23.

Accession Number: 20230119-5164.

Comment Date: 5 p.m. ET 2/9/23.

Take notice that the Commission received the following electric rate filings:

Docket Numbers: ER21-292-003.

Applicants: Dynegy Oakland, LLC.

Description: Tariff Amendment: Oakland Power Company LLC submits tariff filing per 35.17(b): Oakland RMR 2021 Joint Offer of Settlem. & Settlem. Agrmt. to be effective 12/31/9998.

Filed Date: 1/19/23.

Accession Number: 20230119-5130.

Comment Date: 5 p.m. ET 2/9/23.

Docket Numbers: ER21-2329-001; ER21-2329-002.

Applicants: Midcontinent Independent System Operator, Inc.

Description: Midcontinent Independent System Operator, Inc. submits tariff filing per 35.19a(b): Refund Report_Minok Stewardship Wind LLC to be effective N/A.

Filed Date: 1/18/23.

Accession Number: 20230118-5177.

Comment Date: 5 p.m. ET 2/8/23.

Docket Numbers: ER22-2494-001; ER23-857-001; ER23-858-001.

Applicants: Monongahela Power Company, Allegheny Energy Supply Company, LLC, FirstEnergy Service Company.

Description: FirstEnergy Service Company submits Compliance Filing.

Filed Date: 1/17/23.

Accession Number: 20230117-5323.

Comment Date: 5 p.m. ET 2/7/23.

Docket Numbers: ER23-505-001.

Applicants: AEP Texas Inc.

Description: Tariff Amendment: AEPTX-Monte Alto Windpower 6th A&R GIA (Amend Pending) to be effective 11/14/2022.

Filed Date: 1/19/23.

Accession Number: 20230119-5158.

Comment Date: 5 p.m. ET 2/9/23.

Docket Numbers: ER23-562-001.

Applicants: TGP Energy Management II, LLC.

Description: Tariff Amendment: Supplement to Petition for Market-Based Rate Authorization to be effective 2/4/2023.

Filed Date: 1/19/23.

Accession Number: 20230119-5168.

Comment Date: 5 p.m. ET 2/9/23.

Docket Numbers: ER23-859-000.

Applicants: Union Energy Center, LLC.

Description: Union Energy Center, LLC submits a Petition for Limited, Prospective Tariff Waiver with Expedited Action of the requirement in Section 25.6.2.3.1 of Attachment S of the NYISO OATT.

Filed Date: 1/13/23.

Accession Number: 20230113-5355.

Comment Date: 5 p.m. ET 1/23/23.

Docket Numbers: ER23-889-000.

Applicants: Southwestern Public Service Company.

Description: § 205(d) Rate Filing: 2023-01-19 SPS GSEC NPEC IA Skellytown 750-SPS to be effective 3/21/2023.

Filed Date: 1/19/23.

Accession Number: 20230119-5003.

Comment Date: 5 p.m. ET 2/9/23.

Docket Numbers: ER23-890-000.

Applicants: Basin Electric Power Cooperative.

Description: Initial rate filing: Basin Electric Power Cooperative, Submission of O&M and Transmission Agreements to be effective 7/10/2020.

Filed Date: 1/19/23.

Accession Number: 20230119-5010.

Comment Date: 5 p.m. ET 2/9/23.

Docket Numbers: ER23-891-000.

Applicants: Basin Electric Power Cooperative.

Description: Tariff Amendment: Basin Electric Notice of Cancellation of Service Agreements with MDU to be effective 4/20/2022.

Filed Date: 1/19/23.

Accession Number: 20230119-5019.

Comment Date: 5 p.m. ET 2/9/23.

Docket Numbers: ER23-892-000.

Applicants: PJM Interconnection, L.L.C.

Description: § 205(d) Rate Filing: Enhancements to Certain Credit Provisions in OATT Att. Q to be effective 3/21/2023.

Filed Date: 1/19/23.

Accession Number: 20230119-5062.

Comment Date: 5 p.m. ET 2/9/23.

Docket Numbers: ER23-893-000.

Applicants: Crane Brook Solar Project, LLC.

Description: Request of Crane Brook Solar Project, LLC for Prospective Tariff Waiver, Expedited Action, and Shortened Comment Period.

Filed Date: 1/18/23.

Accession Number: 20230118-5174.

Comment Date: 5 p.m. ET 1/25/23.

Docket Numbers: ER23-894-000.

Applicants: North Seneca Solar Project, LLC.

Description: Request of North Seneca Solar Project, LLC for Prospective Tariff Waiver, Expedited Action, and Shortened Comment Period.

Filed Date: 1/18/23.

Accession Number: 20230118-5175.

Comment Date: 5 p.m. ET 1/25/23.

Docket Numbers: ER23-895-000.

Applicants: Arizona Public Service Company.

Description: § 205(d) Rate Filing: Rate Schedule No. 217, Exhibit B Revisions to be effective 3/27/2023.

Filed Date: 1/19/23.

Accession Number: 20230119-5069.

Comment Date: 5 p.m. ET 2/9/23.

Docket Numbers: ER23-896-000.

Applicants: Alabama Power Company, Georgia Power Company, Mississippi Power Company.

Description: Tariff Amendment: Alabama Power Company submits tariff filing per 35.15: County Line Solar LGIA Termination Filing to be effective 1/19/2023.

Filed Date: 1/19/23.

Accession Number: 20230119-5087.

Comment Date: 5 p.m. ET 2/9/23.

Docket Numbers: ER23-897-000.

Applicants: Alabama Power Company, Georgia Power Company, Mississippi Power Company.

Description: Tariff Amendment: Alabama Power Company submits tariff filing per 35.15: Irwin Solar I LGIA Termination Filing to be effective 1/19/2023.

Filed Date: 1/19/23.

Accession Number: 20230119-5089.

Comment Date: 5 p.m. ET 2/9/23.

Docket Numbers: ER23-898-000.

Applicants: Ridgewind Power Partners, LLC.

Description: § 205(d) Rate Filing: Ridgewind Power Partners, LLC MBR Tariff Update to be effective 3/21/2023.

Filed Date: 1/19/23.

Accession Number: 20230119-5115.

Comment Date: 5 p.m. ET 2/9/23.

Docket Numbers: ER23-899-000.

Applicants: Northwest Power Pool.

Description: § 205(d) Rate Filing: Service Agreement No. 1; WRAPA Between WPP and Bonneville Power Administration to be effective 1/1/2023.

Filed Date: 1/19/23.

Accession Number: 20230119-5120.

Comment Date: 5 p.m. ET 2/9/23.

Docket Numbers: ER23-900-000.

Applicants: PJM Interconnection, L.L.C.

Description: Tariff Amendment: Notice of Cancellation of WMPA, SA No. 5048, Queue No. AD1-062 to be effective 12/20/2022.

Filed Date: 1/19/23.

Accession Number: 20230119-5121.

Comment Date: 5 p.m. ET 2/9/23.

Docket Numbers: ER23-901-000.

Applicants: Northwest Power Pool.

Description: § 205(d) Rate Filing: Service Agreement No. 2; WRAPA Between WPP and Powerex Corp to be effective 1/1/2023.

Filed Date: 1/19/23.

Accession Number: 20230119-5122.

Comment Date: 5 p.m. ET 2/9/23.

Docket Numbers: ER23-902-000.

Applicants: AEP Texas Inc.

Description: § 205(d) Rate Filing: AEPTX-Electra Energy Project Generation Interconnection Agreement to be effective 1/3/2023.

Filed Date: 1/19/23.

Accession Number: 20230119-5135.

Comment Date: 5 p.m. ET 2/9/23.

Docket Numbers: ER23-904-000.

Applicants: Midcontinent Independent System Operator, Inc.

Description: § 205(d) Rate Filing: 2023-01-19_Shortage and Near-Shortage Pricing Enhancement to be effective 3/21/2023.

Filed Date: 1/19/23.

Accession Number: 20230119-5152.

Comment Date: 5 p.m. ET 2/9/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 19, 2023.
Debbie-Anne A. Reese,
Deputy Secretary.

[FR Doc. 2023-01454 Filed 1-24-23; 8:45 am]

BILLING CODE 6717-01-P